DEPARTMENT OF ENERGY

Federal Energy Regulatory Commission

Combined Notice of Filings #1

Take notice that the Commission received the following electric rate filings:

Docket Numbers: ER09-1256-004; ER12-2708-006.

Applicants: Potomac-Appalachian Transmission Highline, LLC PATH West Virginia Transmission Company, LLC, PATH Allegheny Transmission Company, LLC.

Description: Compliance filing of Potomac-Appalachian Transmission Highline, LLC, et al. to Opinion No. 554.

Filed Date: 3/20/17.

Accession Number: 20170320-5274.

Comments Due: 5 p.m. ET 4/10/17.

Docket Numbers: ER12-2708-005.

Applicants: Potomac-Appalachian Highline Transmission, LLC, PJM Interconnection, L.L.C.

Description: Compliance filing: PATH ROE Compliance Filing re Opinion 554 in ER09-1256 and ER12-2708 to be effective 1/19/2017.

Filed Date: 3/20/17.

Accession Number: 20170320-5155.

Comments Due: 5 p.m. ET 4/10/17.

Docket Numbers: ER11-4634-003.

Applicants: Hazleton Generation LLC.

Description: Compliance filing: Supplement to Notice of Change in Status to be effective 3/22/2017.

Filed Date: 3/21/17.

Accession Number: 20170321-5142.

Comments Due: 5 p.m. ET 4/11/17.

Docket Numbers: ER15-1456-002.

Applicants: Beaver Falls, L.L.C.

Description: Compliance filing: Supplement to Notice of Change in Status to be effective 3/22/2017.

Filed Date: 3/21/17.

Accession Number: 20170321-5139.

Comments Due: 5 p.m. ET 4/11/17.

Docket Numbers: ER15-1457-002.

Applicants: Syracuse, L.L.C.

Description: Compliance filing: Supplement to Notice of Change in Status to be effective 3/22/2017.

Filed Date: 3/21/17.

Accession Number: 20170321-5144.

Comments Due: 5 p.m. ET 4/11/17.

Docket Numbers: ER17-881-001.

Applicants: Duke Energy Florida, LLC.

Description: Compliance filing: City of Wauchula NITSA-NOA Compliance Filing to be effective 4/1/2017.

Filed Date: 3/21/17.

Accession Number: 20170321-5099.

Comments Due: 5 p.m. ET 4/11/17.

Docket Numbers: ER17-1263-000.

Applicants: CWP Energy, Inc.

Description: Compliance filing: Baseline Refile to be effective 3/21/2017.

Filed Date: 3/20/17.

Accession Number: 20170320-5228.

Comments Due: 5 p.m. ET 4/10/17.

Docket Numbers: ER17-1266-000.

Applicants: The Dayton Power and Light Company, AEP Generation Resources Inc., Dynegy Killen, LLC, Dynegy Stuart, LLC.

Description: Petition of The Dayton Power and Light Company, et al. for Limited Waiver of PJM Tariff Deadlines and for Expedited Action.

Filed Date: 3/17/17.

Accession Number: 20170317-5216.

Comments Due: 5 p.m. ET 4/7/17.

Docket Numbers: ER17-1269-000.

Applicants: FirstEnergy Solutions Corp.

Description: Request for Authorization to Make Wholesale Power Sales to an Affiliate of FirstEnergy Solutions Corp.

Filed Date: 3/17/17.

Accession Number: 20170317-5220.

Comments Due: 5 p.m. ET 4/7/17.

Docket Numbers: ER17-1271-000.

Applicants: PJM Interconnection, L.L.C.

Description: Tariff Cancellation: Notice of Cancellation of WMPA SA No. 3159—Queue W2-073 to be effective 5/15/2017.

Filed Date: 3/21/17.

Accession Number: 20170321-5043.

Comments Due: 5 p.m. ET 4/11/17.

Docket Numbers: ER17-1272-000.

Applicants: FirstEnergy Solutions Corp.

Description: Request for Authorization to Make Wholesale Power Sales to an Affiliated Utility of FirstEnergy Solutions Corp.

Filed Date: 3/17/17.

Accession Number: 20170317-5222.

Comments Due: 5 p.m. ET 4/7/17.

Docket Numbers: ER17-1274-000.

Applicants: Public Service Company of Colorado.

Description: § 205(d) Rate Filing: PSCo—OATT Att T—Form of Bal Auth Ancil Svcs Agrmt to be effective 5/21/2017.

Filed Date: 3/21/17.

Accession Number: 20170321-5048.

Comments Due: 5 p.m. ET 4/11/17.

Docket Numbers: ER17-1278-000.

Applicants: Indiana Michigan Power Company, PJM Interconnection, L.L.C.

Description: § 205(d) Rate Filing: AEP submits 2nd Revised Service Agreement No. 1436 to be effective 3/21/2017.

Filed Date: 3/21/17.

Accession Number: 20170321-5097.

Comments Due: 5 p.m. ET 4/11/17.

Docket Numbers: ER17-1279-000.

Applicants: New York Independent System Operator, Inc.

Description: § 205(d) Rate Filing: NYISO 205 filing re: enhancements to the DAMAP program rules to be effective 7/1/2017.

Filed Date: 3/21/17.

Accession Number: 20170321-5098.

Comments Due: 5 p.m. ET 4/11/17.

Docket Numbers: ER17-1280-000.

Applicants: Repsol Energy North America Corporation.

Description: Tariff Cancellation: Notice of Cancellation to be effective 4/1/2017.

Filed Date: 3/21/17.

Accession Number: 20170321-5105.

Comments Due: 5 p.m. ET 4/11/17.

Docket Numbers: ER17-1281-000.

Applicants: Westmoreland Partners.

Description: Petition for Limited Waiver of Tariff Deadlines and Request for Expedited Action of Westmoreland Partners.

Filed Date: 3/21/17.

Accession Number: 20170321-5125.

Comments Due: 5 p.m. ET 4/11/17.

Docket Numbers: ER17-1282-000.

Applicants: CenterPoint Energy Houston Electric, LLC.

Description: § 205(d) Rate Filing: TFO Tariff Interim Rate Revision to Conform with PUCT-Approved ERCOT Rate to be effective 2/27/2017.

Filed Date: 3/21/17.

Accession Number: 20170321-5126.

Comments Due: 5 p.m. ET 4/11/17.

Docket Numbers: ER17-1283-000.

Applicants: Indiana Michigan Power Company, PJM Interconnection, L.L.C.

Description: § 205(d) Rate Filing: AEP submits 13th Revised Service Agreement No. 1262 to be effective 2/22/2017.

Filed Date: 3/21/17.

Accession Number: 20170321-5128.

Comments Due: 5 p.m. ET 4/11/17.

Docket Numbers: ER17-1284-000.

Applicants: Midcontinent Independent System Operator, Inc.

Description: § 205(d) Rate Filing: 2017-03-21_SA 2983 Entery Louisiana-Entergy Louisiana—Amended GIA (J396 J482) to be effective 3/13/2017.

Filed Date: 3/21/17.

Accession Number: 20170321-5147.

Comments Due: 5 p.m. ET 4/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2017.
Nathaniel J. Davis, Sr.,
Deputy Secretary.

[FR Doc. 2017-05938 Filed 3-24-17; 8:45 am]

BILLING CODE 6717-01-P